EQUAL EMPLOYMENT OPPORTUNITY COMMISSION

Agency Information Collection Activities: Existing Collection

AGENCY: Equal Employment Opportunity Commission.

ACTION: Final Notice of Information Collection—Extension without change of a currently approved collection Local Union Report (EEO-3) and request for comments.

SUMMARY: In accordance with the Paperwork Reduction Act of 1995 (PRA), the Equal Employment Opportunity Commission (EEOC or Commission) announces that it is submitting to the Office of Management and Budget (OMB) a request for a three-year extension without change of the existing Local Union Report (EEO-3) (EEOC Form 274) as described below.

DATES: Written comments on this notice are encouraged and must be submitted on or before April 12, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Rashida Dorsey, Employer Data Team, Data Development and Information Products Division, Equal Employment Opportunity Commission, 131 M Street NE, Room 4SW32J, Washington, DC 20507; (202) 663-4355 (voice), (202) 663-7063 (TTY) or email at Rashida.Dorsey@eeoc.gov.

SUPPLEMENTARY INFORMATION: A notice that the EEOC would be submitting this request was published in the Federal Register on November 19, 2020, allowing for a 60-day public comment period. No comments were received from the public during the 60-day public comment period.

Overview of Information Collection

Collection Title: Local Union Report (EEO-3).

OMB Number: 3046-0006.

Frequency of Report: Biennial.

Type of Respondent: Local referral unions with 100 or more members.

Description of Affected Public: Local referral unions and independent or unaffiliated referral unions and similar labor organizations.

Responses: 1,100 ¹ per biennial collection.

¹ This figure is based on the total number of respondents who were eligible to submit EEO-3 data in 2018, which is the most recently completed EEO-3 data year.

Reporting Hours: 2,252 per biennial collection.

Burden Hour Cost: $70,415.95 per biennial collection.

Federal Cost: $390,120.85 per biennial collection.

Number of Forms: 1.

Form Number: EEOC Form 274.

Abstract: Section 709(c) of Title VII of the Civil Rights Act of 1964, as amended, 42 U.S.C. 2000e-8(c), requires labor organizations to make and keep records relevant to a determination of whether unlawful employment practices have been or are being committed and produce reports required by the EEOC. Accordingly, the EEOC issued regulations, 29 CFR 1602.22 and 1602.27-.28, which set forth the reporting requirements and related record retention policies for various kinds of labor organizations. 29 CFR 1602.22 requires every local union to retain the most recent report filed, and 29 CFR 1602.27-.28 require filers to make records necessary for completion of the EEO-3 and preserve them for a year (or if a charge of discrimination is filed, relevant records must be retained until final disposition of the matter). 29 CFR 1602.22 and 1602.27-.28 are related to recordkeeping which is part of standard administrative practices, and as a result, the EEOC believes that any impact on burden would be negligible and nearly impossible to quantify. Local referral unions with 100 or more members have been required to submit EEO-3 reports since 1967 (biennially since 1986). The EEOC uses EEO-3 data for research and to investigate charges of discrimination. The individual reports are confidential.

Burden Statement: The methodology for calculating annual burden reflects the different staff that are responsible for preparing and filing the EEO-3. These estimates stem from a limited study that was conducted in 2015 with nine EEO-3 respondents. The EEOC accounts for time to be spent biennially on EEO-3 reporting by business agents and administrative staff, as well as time spent by attorneys who, in a few cases, may consult briefly during the reporting process. The estimated number of respondents included in the biennial EEO-3 collection is 1,100 local referral unions, as this is the approximate number of filers from the 2018 reporting cycle. The estimated hour burden per report will be 2.05 hours, and the estimated total biennial respondent burden hours will be 2,251.80. Burden hour cost was calculated using median hourly wage rates for administrative staff and legal counsel, and average hourly wage rates for labor union business agents.

The burden hour cost per report will be $67.33, and the estimated total burden hour cost per biennial collection will be $70,415.95 (See Table 1 for calculations).

Table 1—Estimate of Biennial Burden for EEO-3 Report
Local referral union staff | Hourly wage rate ᵃ | Hours per local | Cost per local | Total burden hours | Total burden hour cost
Secretaries and Administrative Assistants | $18.84 | 1 | $18.84 | 1,100 | $20,724.00
Business Agent | 45.00 | 1 | 45.00 | 1,100 | 49,500.00
Corporate Legal Counsel | 69.86 | 0.05 | 3.49 | 55 | 191.95
Total |  | 2.05 | 67.33 | 2,251.80 | 70,415.95
Note: A limited study was conducted by the EEOC of local referral union EEO-3 respondents. The methodology included surveying nine local referral union respondents by asking a series of survey questions approved by the EEOC's Office of Legal Counsel regarding the type of local union staff involved in submitting EEO-3 data. The EEOC asked responding study participants to estimate how long on average it took identified local union staff members to complete the EEO-3 report and what proportion of that time was allocated to each staff member job title. The burden hours per local union by job title, 2.05, is estimated based on filer responses. The results of the study were published in the Final Notice of Submission for OMB Review—Extension Without Change: Local Union Report (EEO-3) on January 24, 2017: https://www.federalregister.gov/documents/2017/01/24/2017-01558/agency-information-collection-activities-proposed-collection-submission-for-omb-review.
ᵃ Hourly wage rates for administrative staff and legal counsel were obtained from the Bureau of Labor Statistics, May 2019 (see U.S. Dept. of Labor, Bureau of Labor Statistics, Occupational Outlook Handbook, https://www.bls.gov/oes/current/oes_stru.htm) and the average hourly wage rate for a labor union business agent was obtained from salaryexpert.com (see https://www.salaryexpert.com/salary/job/labor-union-business-agent/united-states).

These estimates are based upon filers' use of the EEO-3 online web-based application system to submit reports. During the 2018 EEO-3 collection cycle, approximately 1,100 local referral unions were identified as being eligible to report EEO-3 data, and all but 31 of the 975 responsive EEO-3 filers submitted their data electronically. Online electronic filing remains the most popular, efficient, accurate, and secure means of reporting for respondents required to submit the EEO-3 report. The EEOC has made online electronic filing much easier for respondents required to file the EEO-3 report and as a result, more respondents are using this method. Accordingly, the EEOC will continue to encourage EEO-3 filers to submit data through online electronic filing and will only accept paper records from filers who have secured permission to submit data via paper submission.

Dated: March 5, 2021.
For the Commission.
Charlotte A. Burrows,
Chair.

[FR Doc. 2021-05058 Filed 3-10-21; 8:45 am]

BILLING CODE 6570-01-P